DEPARTMENT OF ENERGY

Federal Energy Regulatory Commission

[Project No. 2503-110—South Carolina]

Duke Energy Carolinas, LLC; Notice of Availability of Environmental Assessment

May 30, 2007.

In accordance with the National Environmental Policy Act of 1969 and the Federal Energy Regulatory Commission's (Commission) regulations, 18 CFR part 380 (Order No. 486, 52 FR 47897), the Office of Energy Projects has reviewed a proposed, comprehensive shoreline management plan (SMP) for Lake Keowee, a reservoir of the Keowee-Toxaway Project (FERC No. 2503), and has prepared an environmental assessment (EA) for the proposal. The project's Lake Keowee is located on the Keowee and Little Rivers in Pickens and Oconee Counties, South Carolina.

Duke Energy Carolinas, LLC, the project licensee, filed the proposed SMP to address increased interest in residential development along the Keowee reservoir shoreline, including future requests for multi-slip marina facilities. The proposed plan, itself, does not propose the construction of facilities or any ground-disturbing activities at Lake Keowee, but only serves as a management tool for the licensee to manage the reservoir and the adjoining shoreline. The EA contains Commission staff's analysis of the potential environmental impacts of the proposal and concludes that approval of the proposed SMP, as modified by staff recommended measures, would not constitute a major federal action significantly affecting the quality of the human environment.

The EA is attached to a Commission order titled “Order Modifying and Approving Shoreline Management Plan,” which was issued May 25, 2007, and is available for review and reproduction at the Commission's Public Reference Room, located at 888 First Street, NE., Room 2A, Washington, DC 20426. The EA may also be viewed on the Commission's Web site at http://www.ferc.gov using the “elibrary” link. Enter the project number (prefaced by P- and excluding the last three digits) in the docket number field to access the document. For assistance, contact FERC Online Support at FERCOnlineSupport@ferc.gov or toll-free at (866) 208-3676, or for TTY, contact (202) 502-8659.

Kimberly D. Bose,
Secretary.

[FR Doc. E7-10810 Filed 6-5-07; 8:45 am]

BILLING CODE 6717-01-P